DEPARTMENT OF ENERGY

Federal Energy Regulatory Commission

[Project No. 2114-104]

Public Utility District No. 2 of Grant County, Washington; Notice Dismissing Complaint

March 4, 2002.

On February 12, 2002, the Yakama Nation (Complainant) filed a complaint against Public Utility District No. 2 of Grant County, Washington (Grant County), alleging that Grant County is in violation of its license for the Priest Rapids Hydroelectric Project No. 2114, Federal law authorizing the development of the Project, and certain sections of the Federal Power Act. The Complainant requested that the Commission employ fast track procedures to address its complaint.

On February 28, 2002, Complainant filed a motion, citing unspecified changed circumstances, requesting that the Commission hold processing of its complaint in abeyance pending the filing of an amended complaint at an unspecified future time. Rather than holding the complaint in abeyance pending the filing of a new, revised complaint, we will dismiss it without prejudice. At such time as complainant files an amended complaint, it will be noticed and a deadline for responses thereto will be established.

Magalie R. Salas,
Secretary.

[FR Doc. 02-5696 Filed 3-8-02; 8:45 am]

BILLING CODE 6717-01-P